DEPARTMENT OF THE INTERIOR

Fish and Wildlife Service

50 CFR Part 17

[FWS-R4-ES-2008-0082; 9221050083-B2]

RIN 1018-AU85

Endangered and Threatened Wildlife and Plants; Proposed Endangered Status for Reticulated Flatwoods Salamander; Proposed Designation of Critical Habitat for Frosted Flatwoods Salamander and Reticulated Flatwoods Salamander

AGENCY: Fish and Wildlife Service, Interior.

ACTION: Proposed rule; extension of comment period and notice of public hearing.

SUMMARY: We, the U.S. Fish and Wildlife Service, are announcing the location and time of a public hearing to receive public comments on the proposal to split the current listing under the Endangered Species Act of 1973, as amended, of the threatened flatwoods salamander (Ambystoma cingulatum) into two distinct species: frosted flatwoods salamander (Ambystoma cingulatum) and reticulated flatwoods salamander (Ambystoma bishopi), due to a change in taxonomy. We also propose to list reticulated flatwoods salamander as endangered and propose critical habitat for both species. We are extending the public comment period until November 3, 2008. If you submitted comments previously, then you do not need to resubmit them because we have already incorporated them into the public record and we will fully consider them in preparation of our final determination.

DATES: Public hearing: We will hold a public hearing on this proposed rule on October 22, 2008, from 7:30 p.m. to 9:30 p.m. An open house, where the public may view maps of critical habitat units and obtain other information on the proposed rule and draft economic analysis, will be held 1 hour prior to the hearing from 6:30 p.m. to 7:30 p.m.

Comments: We are extending the public comment period until November 3, 2008. For more information, see “Public Comments Solicited” below.

ADDRESSES: Public hearing: We will hold a public hearing at Pensacola Junior College, 1000 College Blvd., Hagler Auditorium (Bldg. 2), Room 252, Pensacola, FL 32504.

Comments: You may submit comments by one of the following methods:

Federal eRulemaking Portal: http://www.regulations.gov. Follow the instructions for submitting comments.

U.S. mail or hand-delivery: Public Comments Processing, Attn: RIN 1018-AU85; Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information).

FOR FURTHER INFORMATION CONTACT: Ray Aycock, Field Supervisor, U.S. Fish and Wildlife Service, Mississippi Field Office, 6578 Dogwood View Parkway, Jackson, MS 39213; telephone: 601-321-1122; facsimile: 601-965-4340. If you use a telecommunications device for the deaf (TDD), call the Federal Information Relay Service (FIRS) at 800-877-8339.

SUPPLEMENTARY INFORMATION:

Background

We, the U.S. Fish and Wildlife Service, published a proposed rule on February 7, 2007, (72 FR 5855) to designate critical habitat for the flatwoods salamander (Ambystoma cingulatum), a species that was listed as threatened under the Endangered Species Act of 1973, as amended (16 U.S.C. 1531 et seq. ) in 1999 (64 FR 15691, April 1, 1999). As the result of a change in taxonomy, we subsequently proposed to split the listing of the flatwoods salamander into two distinct species: Frosted flatwoods salamander (Ambystoma cingulatum) and reticulated flatwoods salamander (Ambystoma bishopi) (73 FR 47257, August 13, 2008). Under our proposal, the frosted flatwoods salamander would maintain the status of threatened; however, we proposed to list the reticulated flatwoods salamander as endangered.

We also proposed to designate critical habitat for both the frosted flatwoods salamander and the reticulated flatwoods salamander. In total, approximately 30,628 acres (ac) (12,395 hectares (ha)) (23,132 ac (9,363 ha) for the frosted flatwoods salamander and 7,496 ac (3,035 ha) for the reticulated flatwoods salamander) fall within the boundaries of the proposed critical habitat designation, which is located in the panhandle of Florida, southwestern Georgia, and southeastern South Carolina. On September 18, 2008, we published supplemental information to our proposed rule (73 FR 54125).

In response to a request, we will hold a public hearing on this proposed rule as described in DATES and ADDRESSES. In addition, we are extending the close of the public comment period from October 14, 2008, until November 3, 2008.

Public Comments Solicited

We will accept written comments and information we receive on or before the date listed in DATES on our proposed critical habitat designation, proposed endangered status for reticulated flatwoods salamander, the draft economic analysis published in the Federal Register on August 13, 2008 (73 FR 47258), and proposed threatened status for frosted flatwoods salamander published in the Federal Register on September 18, 2008 (73 FR 54125). We will consider information and recommendations from all interested parties.

You may submit your comments and materials by one of the methods listed in the ADDRESSES section. We will not accept comments you send by e-mail or fax or to an address not listed in the ADDRESSES section.

We will post your entire comment—including your personal identifying information—on http://www.regulations.gov. If you provide personal identifying information, you may request at the top of your document that we withhold this information from public review. However, we cannot guarantee that we will be able to do so.

Comments and materials we receive, as well as supporting documentation we used in preparing the proposed rule and draft economic analysis, will be available for public inspection on http://www.regulations.gov, or by appointment, during normal business hours, at the U.S. Fish and Wildlife Service, Mississippi Field Office (see FOR FURTHER INFORMATION CONTACT).

Author(s)

The primary authors of this package are the staff of the Mississippi Field Office.

Authority

The authority for this action is the Endangered Species Act of 1973, as amended (16 U.S.C. 1531 et seq.).

Dated: October 3, 2008.
David M. Verhey,
Acting Assistant Secretary for Fish and Wildlife and Parks.

[FR Doc. E8-23997 Filed 10-7-08; 8:45 am]

BILLING CODE 4310-55-P